DEPARTMENT OF STATE

[Public Notice: 12149]

Notice of Public Meeting

SUMMARY: As required by the Federal Advisory Committee Act, the Department of State gives notice of a meeting of the Advisory Committee on International Postal and Delivery Services.

DATES: This Committee will meet virtually on Monday, September 18, 2023 from 1 p.m. to 3:30 p.m. eastern time, hosted on Zoom for Government. Details on how to participate will be forwarded to those who RSVP.

FOR FURTHER INFORMATION CONTACT: Please contact Mr. Stuart Smith of the Office of Specialized and Technical Agencies (IO/STA), Bureau of International Organization Affairs, U.S. Department of State, at tel. (202) 615-2901 or by email at SmithSM7@state.gov.

SUPPLEMENTARY INFORMATION: Members of the public interested in providing input to the meeting should contact Mr. Stuart Smith, whose contact information is listed above (see the FOR FURTHER INFORMATION CONTACT section of this notice). Individuals providing oral input are requested to limit their comments to five minutes. Requests to be added to the speakers list must be received in writing (by email) prior to the close of business on Tuesday, September 12; written comments from members of the public for distribution at this meeting must reach Mr. Smith by email on this same date. Requests received after that date, including any requests for reasonable accommodation, will be considered but might not be able to be fulfilled.

The agenda of the meeting will include discussion of issues on the agenda of the upcoming Fourth Extraordinary Congress of the Universal Postal Union, which will be held in Riyadh, Saudi Arabia from October 1-5, 2023, as well as other ongoing work in the UPU.

Authority: 5 U.S.C. 1009 and 22 U.S.C. 2651a.

Stuart Smith,
Designated Federal Officer, Advisory Committee on International Postal and Delivery Services, Office of Specialized and Technical Agencies, Bureau of International Organization Affairs, Department of State.

[FR Doc. 2023-17347 Filed 8-11-23; 8:45 am]

BILLING CODE 4710-19-P